OFFICE OF SCIENCE AND TECHNOLOGY POLICY

Aeronautics Science and Technology Subcommittee, Committee on Technology, National Science and Technology Council; Notice of Meeting

ACTION: Notice of Meeting—Public Consultation on the National Aeronautics Research, Development, Test and Evaluation (RDT&E) Infrastructure Plan.

SUMMARY: The Aeronautics RDT&E Infrastructure Interagency Working Group (IIWG) of the Aeronautics Science and Technology Subcommittee (ASTS) of the National Science and Technology Council's (NSTC) Committee on Technology will hold a public meeting to discuss development of the National Aeronautics RDT&E Infrastructure Plan. Executive Order (E.O.) 13419—National Aeronautics Research and Development—signed December 20, 2006, calls for the development of this plan. The plan is to be guided by both the National Aeronautics Research and Development (R&D) Policy and the National Plan for Aeronautics R&D and Related Infrastructure that were developed by the NSTC and approved by the President in 2006 and 2007 respectively.

DATES AND ADDRESSES: The meeting will be held in conjunction with the 47th AIAA Aerospace Sciences Meeting at the Orlando World Center Marriott, 8701 World Center Drive, Orlando, Florida, 32821 on Thursday, January 8, 2009, from 3:30 p.m. to 5:30 p.m. in the Grand Ballroom 12 (Session 270-APA-36/GT-10). Information regarding the 47th AIAA Aerospace Sciences Meeting is available at the AIAA Web site: http://www.aiaa.org. Note: persons solely attending the ASTS public meeting do not need to register for the AIAA Meeting. There will be no admission charge for persons solely attending the public meeting.

SUPPLEMENTARY INFORMATION: E.O. 13419 and the National Aeronautics R&D Policy call for executive departments and agencies conducting aeronautics R&D to engage industry, academia and other non-Federal stakeholders in support of government planning and performance of aeronautics R&D. At this meeting, members of the IIWG and the specialized task forces that were established under the IIWG will discuss the structure and content to date of the National Aeronautics RDT&E Infrastructure Plan. The main purposes of the meeting are to: allow government representatives to provide the current status of the effort to develop the National Aeronautics RDT&E Infrastructure Plan; and, obtain information and comments from individuals regarding the aeronautics RDT&E infrastructure requirements to support the national aeronautics R&D goals and objectives related to mobility, national defense, aviation safety, and energy and the environment that are stated in the National Plan for Aeronautics R&D and Related Infrastructure. Additional information and links to E.O. 13419, the National Aeronautics R&D Policy, and the National Plan for Aeronautics R&D and Related Infrastructure are available by visiting the Office of Science and Technology Policy's NSTC Web site at: http://www.ostp.gov/nstc/aeroplans or by calling 202-456-6046.

M. David Hodge,
Operations Manager, OSTP.

[FR Doc. E8-29826 Filed 12-16-08; 8:45 am]

BILLING CODE 3170-W9-P